DEPARTMENT OF AGRICULTURE

Submission for OMB Review; Comment Request

November 17, 2021.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by December 22, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Grazing Permit Administration Forms.

OMB Control Number: 0596-0003.

Summary of Collection: Annually, livestock grazing occurs on approximately 94 million acres of National Forest Service (NFS) lands. This grazing is subject to authorization and administrative oversight by the Forest Service (FS). The information is required for the issuance and administration of grazing permits, including fee collections, on NFS land as authorized by the Federal Land Policy and Management Act 1976, as amended, and subsequent Secretary of Agriculture Regulation 5 U.S.C. 301, 36 CFR 222, subparts A and C. The bills for collection of grazing fees are based on the number of domestic livestock grazed on national forest lands and are a direct result of issuance of the grazing permit. Information must be collected on an individual basis and is collected through the permit issuance and administration process. FS will collect information using several forms.

Need and Use of the Information: FS will use the information collected on the forms to acquire data from applicants applying for new grazing permits or making changes to their current grazing permit(s). FS also uses the information collected in administering the grazing use program on NFS land. If information were not collected it would be impossible for the agency to administer a grazing use program in accordance with the statutes and regulations.

Description of Respondents: Farms; Business or other for-profit; Individuals or households.

Number of Respondents: 1,543.

Frequency of Responses: Reporting: Annually; Other (as needed basis).

Total Burden Hours: 577.

Forest Service

Title: The Stewardship Mapping and Assessment Project (STEW-MAP).

OMB Control Number: 0596-0240.

Summary of Collection: The Cooperative Forestry Assistance Act of 1978 (Pub. L. 113-79) Section 9(a); (b)(8); (c) and (d); The Forest and Rangeland Renewable Resources Research Act of 1978 and the National Environmental Policy act of 1969 authorize the Forest Service to expand and strengthen existing research, education, technical assistance and public information and participation in tree planting and maintenance programs through stewardship. Civic environmental stewards are involved in a range of activities like planting trees, organizing community gardens, offering environment-themed classes, leading local conservation efforts, monitoring plants and animals, and cleaning up nearby parks or natural areas. These stewards may be nonprofit organizations, formal or informal community groups, faith-based organizations, or academic institutions. STEW-MAP will create a publicly available database and map of stewardship groups, their activities, and where they work.

Need and Use of the Information: Information will be gathered on civic stewardship groups and their efforts such as where they work, the types of projects they focus on, and how they are organized. There are three phases to a STEW-MAP project: (1) A census to put together a master list of known stewardship groups and their contact information in the target city or region; (2) a survey distributed to all of the organizations identified in phase one to collect information about what they work on, structure of the group and what other groups they collaborate with; and (3) follow-up interviews with key longstanding organizations identified during phase two, to collect more detailed information about organizational histories. Without this information collection, FS would be unable to understand the current state of civic natural resource stewardship and would be unable to identify the organizations that may provide assistance to a given geographical area.

Description of Respondents: Business or other for-profit; Not-for-profit institutions; State, Local or Tribal Governments.

Number of Respondents: 8,525.

Frequency of Responses: Reporting: Annually.

Total Burden Hours: 4,304.

Levi S. Harrell,
Departmental Information Collection Clearance Officer.

[FR Doc. 2021-25411 Filed 11-19-21; 8:45 am]

BILLING CODE 3411-15-P